SECURITIES AND EXCHANGE COMMISSION

[Release No. 34-89017; File No. SR-BOX-2019-37]

Self-Regulatory Organizations; BOX Exchange LLC; Notice of Withdrawal of a Proposed Rule Change in Connection With the Proposed Commencement of Operations of Boston Security Token Exchange LLC as a Facility of the Exchange

June 4, 2020.

On December 18, 2019, BOX Exchange LLC (the “Exchange”) filed with the Securities and Exchange Commission (“Commission”), pursuant to Section 19(b)(1) of the Securities Exchange Act of 1934 (“Act”) ¹ and Rule 19b-4 thereunder,² a proposed rule change in connection with the proposed commencement of operations of Boston Security Token Exchange LLC (“BSTX”) as a facility of the Exchange. The proposed rule change was published for comment in the Federal Register on January 3, 2020.³

¹ 15 U.S.C. 78s(b)(1).

² 17 CFR 240.19b-4.

³ See Securities Exchange Act Release No. 87868 (December 30, 2019), 85 FR 345 (January 3, 2020) (“Notice”). Comments on the proposed rule change can be found at: https://www.sec.gov/comments/sr-box-2019-37/srbox201937.htm.

On February 13, 2020, pursuant to Section 19(b)(2) of the Act,⁴ the Commission designated a longer period within which to approve the proposed rule change, disapprove the proposed rule change, or institute proceedings to determine whether to approve or disapprove the proposed rule change.⁵ On April 1, 2020, the Commission instituted proceedings to determine whether to approve or disapprove the proposed rule change.⁶

⁴ 15 U.S.C. 78s(b)(2).

⁵ See Securities Exchange Act Release No. 88206 (February 13, 2020), 85 FR 9824 (February 20, 2020). The Commission designated April 2, 2020 as the date by which the Commission shall approve or disapprove, or institute proceedings to determine whether to disapprove, the proposed rule change.

⁶ See Securities Exchange Act Release No. 88536 (April 1, 2020), 85 FR 19537 (April 7, 2020) (“Order Instituting Proceedings” or “OIP”).

On May 12, 2020, the Exchange withdrew the proposed rule change (SR-BOX-2019-37).

For the Commission, by the Division of Trading and Markets, pursuant to delegated authority.⁷
⁷ 17 CFR 200.30-3(a)(12).
J. Matthew DeLesDernier,
Assistant Secretary.

[FR Doc. 2020-12522 Filed 6-9-20; 8:45 am]

BILLING CODE 8011-01-P